DEPARTMENT OF HEALTH AND HUMAN SERVICES

Agency for Healthcare Research and Quality

Solicitation for Nominations for Members of the U.S. Preventive Services Task Force (USPSTF)

AGENCY: Agency for Healthcare Research and Quality (AHRQ), HHS.

ACTION: Solicits nominations for new members of USPSTF.

SUMMARY: The Agency for Healthcare Research and Quality (AHRQ) invites nominations of individuals qualified to serve as members of the U.S. Preventive Services Task Force (USPSTF).

Qualification Requirements: Qualified applicants and nominees must at a minimum demonstrate knowledge, expertise and national leadership in the following areas:

1. The critical evaluation of research published in peer reviewed literature and in the methods of evidence review;

2. Clinical prevention, health promotion and primary health care; and

3. Implementation of evidence-based recommendations in clinical practice including at the clinician-patient level, practice level, and health system level.

Some USPSTF members without primary health care clinical experience may be selected based on their expertise in methodological issues such as meta-analysis, analytic modeling or clinical epidemiology. For individuals with clinical expertise in primary health care, additional qualifications in methodology would enhance their candidacy.

Additionally, the Task Force benefits from members with expertise in the following areas:

• Behavioral medicine

• Public health

• Health equity and the reduction of health disparities

• Application of science to health policy

• Communication of scientific findings to multiple audiences including health care professionals, policy makers and the general public.

Candidates with experience and skills in any of these areas should highlight them in their nomination materials.

Applicants must have no substantial conflicts of interest, whether financial, professional, or intellectual, that would impair the scientific integrity of the work of the USPSTF and must be willing to complete regular conflict of interest disclosures.

Applicants must have the ability to work collaboratively with a team of diverse professionals who support the mission of the USPSTF. Applicants must have adequate time to contribute substantively to the work products of the USPSTF.

DATES: All nominations submitted in writing or electronically will be considered for appointment to the USPSTF. Nominations must be received by May 15th of a given year to be considered for appointment to begin in January of the following year.

Nominated individuals will be selected for the USPSTF on the basis of their qualifications (in particular, those that address the required qualifications, outlined above) and the current expertise needs of the USPSTF. It is anticipated that two or three individuals will be invited to serve on the USPSTF beginning in January, 2013. All individuals will be considered; however, strongest consideration will be given in 2012 to individuals with demonstrated training and expertise in the areas of behavioral medicine, family medicine, general internal medicine, and obstetrics/gynecology. AHRQ will retain and may consider nominations received this year and not selected during this cycle for future vacancies.

ADDRESSES: Submit your responses either in writing or electronically to: Gloria Washington, ATTN: USPSTF Nominations, Center for Primary Care, Prevention, and Clinical Partnerships, Agency for Healthcare Research and Quality, 540 Gaither Road, Rockville, Maryland 20850. USPSTFmennbernominationsaAHRQ.hhs.gov.

Nomination Submissions

Nominations may be submitted in writing or electronically, but must include:

(1) The applicant's current curriculum vitae and contact information, including mailing address, email address, and telephone number and

(2) A letter explaining how this individual meets the qualification requirements and how he/she would contribute to the USPSTF. The letter should also attest to the nominee's willingness to serve as a member of the USPSTF.

AHRQ will later ask persons under serious consideration for membership to provide detailed information that will permit evaluation of possible significant conflicts of interest. Such information will concern matters such as financial holdings, consultancies, and research grants or contracts.

Nominee Selection

Appointments to the USPSTF will be made on the basis of qualifications as outlined above (see Qualification Requirements) and the current expertise needs of the USPSTF.

Arrangement for Public Inspection

Nominations and applications are kept on file at the Center for Primary Care, Prevention, and Clinical Partnerships, AHRQ, and are available for review during business hours. AHRQ does not reply to individual nominations, but considers all nominations in selecting members. Information regarded as private and personal, such as a nominee's social security number, home and email addresses, home telephone and fax numbers, or names of family members will not be disclosed to the public. See 5 U.S.C. 552(b)(6); 45 CFR 5.67.

FOR FURTHER INFORMATION CONTACT: Gloria Washington at USPSTFmembernominationsa_AHRQ.hhs.gov.

SUPPLEMENTARY INFORMATION:

Background

Under Title IX of the Public Health Service Act, AHRQ is charged with enhancing the quality, appropriateness, and effectiveness of health care services and access to such services. 42 U.S.C. 299(b). AHRQ accomplishes these goals through scientific research and promotion of improvements in clinical practice, including clinical prevention of diseases and other health conditions, and improvements in the organization, financing, and delivery of health care services. See 42 U.S.C. 299(b).

AHRQ is authorized to convene the United States Preventive Services Task Force and to provide ongoing research, technical, administrative, and dissemination support for USPSTF's operation See 42 U.S.C. 299b-4(a)(1). The USPSTF, an independent body of experts in prevention and evidence-based medicine, works to improve the health of all Americans by making evidence-based recommendations about the effectiveness of clinical preventive services and health promotion.

The recommendations made by the USPSTF address clinical preventive services for adults and children, and include screening tests, counseling services, and preventive medications. The Task Force makes its recommendations based on comprehensive, systematic reviews and careful assessment of the available medical evidence. Current recommendations and procedures of the USPSTF may be found at: uspreventiveservicestaskforce.org.

The USPSTF is composed of members appointed by the Director of AHRQ to serve for four year terms. New members are selected each year to replace those members who are completing their appointments.

USPSTF members meet three times a year for two days in the Washington, DC area. A significant portion of the USPSTF's work occurs between meetings during conference calls and via email discussions. Member duties include prioritizing topics, designing research plans, reviewing and commenting on systematic evidence reviews of evidence, discussing and making recommendations on preventive services, reviewing stakeholder comments, drafting final recommendation documents, and participating in workgroups on specific topics and methods. Members can expect frequent emails, to participate in multiple conference calls each month, periodic interactions with stakeholders. AHRQ estimates that members devote approximately 200 hours a year outside of in-person meetings to their USPSTF duties. The members are all volunteers.

To obtain a diversity of perspectives, AHRQ particularly encourages nominations of women, members of minority populations, and persons with disabilities. Interested individuals can self nominate. Organizations and individuals may nominate one or more persons qualified for membership on the USPSTF. Individuals nominated prior to May 15, 2011 who continue to have interest in serving should be re-nominated for consideration in the future.

Dated: March 15, 2012.
Carolyn M. Clancy,
Director.

[FR Doc. 2012-7269 Filed 3-27-12; 8:45 am]

BILLING CODE 4160-90-M